DEPARTMENT OF HOMELAND SECURITY

Federal Emergency Management Agency

Agency Information Collection Activities: Proposed Collection; Comment Request

AGENCY: Federal Emergency Management Agency, Emergency Preparedness and Response Directorate, Department of Homeland Security.

ACTION: Notice and request for comments.

SUMMARY: The Federal Emergency Management Agency (FEMA), as part of its continuing effort to reduce paperwork and respondent burden, invites the general public and other Federal agencies to take this opportunity to comment on a proposed new information collection. In accordance with the Paperwork Reduction Act of 1995, as amended (44 U.S.C. 3506 (c)(2)(A)), this notice seeks comments concerning the use of the Excess Federal Real Property Program application.

Supplementary Information: The purpose of the Excess Federal Real Property Program is to convey at no cost to State and local governments excess Federal real property that the Federal Emergency Management Agency (FEMA) determines can be used for emergency management response purposes in perpetuity. The Federal Property and Administrative Services Act of 1949, as amended, 40 U.S.C. 553, (formerly 40 U.S.C. 484(p)), authorizes the Administrator of the General Services Administration (GSA) to transfer or convey (without monetary consideration) Federal real and related surplus property needed for emergency management response purposes, including fire rescue services, as determined by the Under Secretary, Emergency Preparedness and Response Directorate, Department of Homeland Security. GSA's implementing regulations are contained in 41 CFR part 101-47.

Collection of Information

Title: Excess Federal Real Property Program Application.

Type of Information Collection: New.

Abstract. GSA provides announcements to FEMA and to State and local governments concerning available Federal surplus real property for emergency management response use purposes including fire and rescue services. An applicant must notify the disposal agency such as GSA Regional and Headquarters offices, the Department of Defense (DOD) Base Realignment Closure (BRAC) Offices, and FEMA Regional and Headquarters offices of its intent to acquire the property. The notification should occur within 20 days after notification of property availability. States, the District of Columbia, any territory or possession of the United States, or any political subdivision or instrumentality thereof, may apply for the transfer or conveyance of surplus real property for emergency management response use purposes. An applicant must formally submit a completed Excess Federal Real Property Program application including supporting documentation to FEMA. After receiving this information, FEMA will then determine if the requested excess Federal real property is required for emergency management response use. The application process is designed to ensure that the applicant's proposed use of the Federal real property is for emergency management use as an integral part of applicable State and local government plans. The completed application form is designed to ensure that the applicant conforms to GSA and DOD regulatory conditions.

Affected Public: State, local or Tribal government.

Estimated Total Annual Burden Hours: 3.

FEMA form | No. of respondents | Frequency of response | Hours per response | Annual burden hours
| (A) | (B) | (C) | (A x B x C)
Excess Federal Real Property Application | 1 | 1 | 3 | 3
Total | 1 | 1 | 3 | 3

Estimated Cost: $150.

COMMENTS: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Branch, Information Resources Management Division, Information Technology Services Directorate, Federal Emergency Management Agency, Emergency Preparedness and Response Directorate, Department of Homeland Security, 500 C Street, SW., Room 316, Washington, DC 20472, facsimile number (202) 646-3347, or e-mail address: InformationCollection@fema.gov.

FOR FURTHER INFORMATION CONTACT: Contact Mike Bozzelli, Chief, Facility Policy and Oversight Branch, Facilities Management and Services Division, Federal Emergency Management Agency, Emergency Preparedness and Response Directorate, Department of Homeland Security at (202) 646-4129. You may contact Ms. Anderson for copies of the proposed collection.

Dated: August 12, 2003.
George S. Trotter,
Acting Division Director, Information Resource Management Division, Information Technology Services Directorate.

[FR Doc. 03-21005 Filed 8-15-03; 8:45 am]

BILLING CODE 6718-01-P